DEPARTMENT OF COMMERCE

International Trade Administration

[A-583-831]

Stainless Steel Sheet and Strip in Coils from Taiwan: Extension of Time Limits for Preliminary Results of Antidumping Duty Administrative Review

AGENCY: Import Administration, International Trade Administration, Department of Commerce.

ACTION: Extension of time limits for the preliminary results of antidumping duty administrative review.

SUMMARY: The Department of Commerce (“the Department”) is extending the time limits for the preliminary results of the antidumping duty administrative review of stainless steel sheet and strip (“SSSS”) from Taiwan.

EFFECTIVE DATE: February 5, 2004.

FOR FURTHER INFORMATION CONTACT: Catherine Bertrand, AD/CVD Enforcement Group III, Office 9, Import Administration, International Trade Administration, U.S. Department of Commerce, 14th Street and Constitution Avenue, N.W., Washington, D.C. 20230; telephone: (202) 482-3207.

BACKGROUND:

On July 2, 2003, the Department published a notice of opportunity to request an administrative review of the antidumping duty order on SSSS from Taiwan. See Antidumping or Countervailing Duty Order, Finding, or Suspended Investigation; Opportunity to Request Administrative Review, 68 FR 39511 (July 2, 2003). On July 24, 2003, Chia Far Industrial Factory Co. Ltd.(“Chia Far”), a Taiwanese producer of subject merchandise, requested that the Department conduct an administrative review of its sales of subject merchandise during the period of review (“POR”). On July 30, 2003, petitioners¹ requested that the Department conduct an administrative review of Chia Far, Yieh United Steel Corporation (“YUSCO”), Tung Mung Development Co., Ltd. (“Tung Mung”), Ta Chen Stainless Pipe Co., Ltd. (“Ta Chen”), China Steel Corporation, Tang Eng Iron Works, PFP Taiwan Co., Ltd., Yieh Loong Enterprise Co., Ltd., Yieh Trading Corp., Goang Jau Shing Enterprise Co., Ltd., Yieh Mau Corp., Chien Shing Stainless Co., Chain Chon Industrial Co., Ltd., and their various affiliates. On August 22, 2003, the Department published a notice of initiation of a review of SSSS from Taiwan covering the period July 1, 2002 through June 30, 2003. See Initiation of Antidumping and Countervailing Duty Administrative Reviews and Requests for Revocation in Part, 68 FR 50750 (August 22, 2003). The preliminary results of review are currently due on April 1, 2004.

¹ Petitioners are Allegheny Ludlum Corporation, AK Steel Corporation, Butler Armco Independent Union, J&L Specialty Steel, Inc., United States Steelworkers of America, AFL-CIO/CLC, and Zanesville Armco Independent Organization.

EXTENSION OF TIME LIMITS FOR PRELIMINARY RESULTS

Section 751(a)(3)(A) of the Tariff Act of 1930, as amended (“the Act”), and section 351.213(h)(2) of the Department's regulations, state that if it is not practicable to complete the review within the time specified, the administering authority may extend the 245-day period to issue its preliminary results by 120 days. Completion of the preliminary results of this review within the 245-day period is impracticable for the following reasons:

• The review involves a large number of transactions and complex adjustments;

• The responses from Chia Far and YUSCO include sales and cost information which require the Department to gather and analyze a significant amount of information pertaining to each company's sales practices, manufacturing costs and corporate relationships; and

• The review involves examining complex relationships between the producers and a large number of customers and suppliers.

Therefore, in accordance with section 751(a)(3)(A) of the Act, and section 351.213(h)(2) of the Department's regulations, we are extending the time period for issuing the preliminary results of review by 60 days from April 1, 2004 until May 31, 2004. The final results continue to be due 120 days after the publication of the preliminary results. This notice is issued and published in accordance with Section 751(a)(3)(A) of the Act, and section 351.213(h)(2) of the Department's regulations.

Dated: January 30, 2004.
Joseph A. Spetrini,
Deputy Assistant Secretary for Import Administration, Group III.

[FR Doc. 04-2524 Filed 2-4-04; 8:45 am]

BILLING CODE 3510-DS-S